ENVIRONMENTAL PROTECTION AGENCY

[EPA-HQ-OPPT-2006-0794; FRL-8345-6]

Review of Chemical Proposals for Addition under the Stockholm Convention on Persistent Organic Pollutants; Solicitation of Information for the Development of Risk Management Evaluations and Risk Profiles

AGENCY: Environmental Protection Agency (EPA).

ACTION: Notice.

SUMMARY: This notice solicits information relevant to the development of risk management evaluations pursuant to the Stockholm Convention on Persistent Organic Pollutants (POPs) (hereafter Convention) for the following chemicals which are being reviewed for possible addition to the Convention’s Annexes A, B, and/or C as POPs: Commercial octabromodiphenyl ether (c-octaBDE) (CAS No. 32536-52-0 ), pentachlorobenzene (PeCB) (CAS No. 608-93-5), alpha-hexachlorocyclohexane (alpha-HCH) (CAS No. 319-84-6), and beta-hexachlorocyclohexane (beta-HCH) (CAS No. 319-85-7). Additionally, this notice solicits additional information relevant to the development of the risk profile pursuant to the Convention for the following chemical which is also being reviewed for possible addition to the Convention’s Annexes A, B, and/or C as POPs: Short-chained chlorinated paraffins (SCCP) (CAS No. 85535-84-8). EPA is issuing this notice to alert interested and potentially affected persons of these proposals and the status of their review under the Convention, and to encourage such persons to provide information relevant to the development of risk profiles and risk management evaluations under the Convention.

DATES: Comments must be received on or before January 22, 2008.

ADDRESSES: Submit your comments, identified by docket identification (ID) number EPA-HQ-OPPT-2006-0794, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2006-0794. The DCO is open from 8 a.m. to 4 p.m., Monday through Friday, excluding legal holidays. The telephone number for the DCO is (202) 564-8930. Such deliveries are only accepted during the DCO’s normal hours of operation, and special arrangements should be made for deliveries of boxed information.

Instructions: Direct your comments to docket ID number EPA-HQ-OPPT-2006-0794. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA’s public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Amy Breedlove, Chemical Control Division (7405M), Office Pollution Prevention and Toxics, Environmental Protection Agency, 1200 Pennsylvania Ave., NW., Washington, DC 20460-0001; telephone number: (202) 564-9823; e-mail address: breedlove.amy@epa.gov.

SUPPLEMENTARY INFORMATION:

I. General Information

A. Does this Action Apply to Me?

This action is directed to the public in general, and may be of particular interest to chemical substance and pesticide manufacturers, importers, and processors. Since other entities may also be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Procedures for preparing confidential information related to pesticides and industrial chemicals. Procedures for preparing confidential information related to pesticides and industrial chemicals are in Unit I.B.1. Send confidential information about industrial chemicals using the submission procedures under ADDRESSES. Send confidential information about pesticides to: Janice K. Jensen, Office of Pesticide Programs (7506P), Environmental Protection, 1200 Pennsylvania Ave., NW., Washington, DC 20460-0001 or hand delivered to: Janice K. Jensen, Government and International Services Branch, Office of Pesticide Programs, Potomac Yard South, 2777 S. Crystal Dr., Rm. #S11315, Arlington, VA 22202. If you have CBI pesticide information to submit or questions about delivering CBI to Janice, please contact her at jensen.janice@epa.gov.

3. Incorporation of comments in U.S. response. Commenters should note that none of the CBI information received by EPA will be forwarded to the Stockholm Convention Secretariat (hereafter Secretariat). Information from submissions containing CBI may be considered by EPA in the development of the U.S. response. If commenters wish EPA to consider incorporating information in documents with CBI as part of the U.S. response, commenters should provide a sanitized copy of the documents. Sanitized copies must be complete except that all information claimed as CBI is deleted. EPA will place sanitized copies in the public docket.

4. CD-ROMs. Please note that due to incoming mail being x-rayed, CD-ROM’s tend to melt and become unusable. It is recommended that they not be sent through the mail.

5. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What Action is the Agency Taking?

The Agency is issuing this notice to increase awareness of the proposals concerning the chemicals subject to this notice, and to provide interested persons with an opportunity to provide relevant information to EPA for its consideration in the development of the United States’ submissions relevant to Convention Annexes E and F for the chemical substances under review at this time for possible addition to Annexes A, B, and/or C of the Convention. On December 3 and 4, 2007, the Secretariat invited Parties and observers to submit to the POPs Review Committee (POPRC) (via the Secretariat) information specified in Annex E and Annex F of the Convention, and other relevant information (the Secretariat’s invitation letters can be found at http://www.pops.int/documents/meetings/poprc/docs/comments.htm). The United States is an observer. EPA is requesting that any information be submitted to EPA no later than January 22, 2008. The United States intends to make a submission by February 4, 2008, to meet the Secretariat’s deadline. In addition, EPA will consider the information during its review of the draft risk management evaluations developed by ad hoc working groups established under POPRC in the coming months. The chemical listing process is discussed in more detail in Unit II.B. Individuals or organizations that wish to submit information directly to POPRC via the Secretariat should work through their respective observer organizations, if any.

B. The Convention Chemical Listing Process

The Convention is a multilateral environmental agreement designed to protect human health and the environment from persistent organic pollutants. The United States signed the Convention in May of 2001 but has not yet ratified it (and thus is not a Party to the Convention). The United States currently participates as an observer in Convention activities. The Convention, which went into force in May of 2004, requires the Parties to reduce or eliminate the production and use of a number of intentionally produced POPs used as pesticides or industrial chemicals. The Convention also calls upon Parties to take certain specified measures to reduce releases of certain unintentionally produced POPs with the goal of their continuing minimization and, where feasible, ultimate elimination. The Convention also imposes controls on the handling of POPs wastes and on trade in POPs chemicals.

In addition, there are specific science-based procedures that Parties to the Convention must use when considering the addition of new chemicals to the Convention’s Annexes. Article 8 of the Convention provides the process that must be followed for listing new chemicals in Annexes A, B, and/or C, and is described in summary in this unit with certain associated implementation procedures being followed by POPRC:

1. A Party to the Convention may submit a proposal to the Secretariat for listing a chemical in Annexes A, B and/or C of the Convention. The proposal shall contain the information specified in Annex D of the Convention (“Information Requirements and Screening Criteria”).

2. The Secretariat verifies that the proposal contains the information specified in Annex D of the Convention, and if the Secretariat is satisfied, the proposal is forwarded to POPRC.

3. POPRC examines the proposal, applies the Convention Annex D screening criteria, and determines whether the screening criteria have been fulfilled.

4. If POPRC is satisfied that the criteria have been fulfilled, POPRC, through the Secretariat, will make the proposal and POPRC’s evaluation available to all Parties and observers and invite them to submit the information specified in Annex E (“Information Requirements for the Risk Profiles”) of the Convention.

5. Draft risk profiles are prepared by ad hoc working groups under POPRC in accordance with Annex E of the Convention for consideration by POPRC and made available to all Parties and observers to collect technical comments.

6. POPRC reviews the draft risk profile and technical comments, completes the risk profile, and determines whether the chemical is likely, as a result of its long-range environmental transport, to lead to significant adverse human health and/or environmental effects, such that global action is warranted.

7. If POPRC determines that action is warranted, then POPRC, through the Secretariat, will ask Parties and observers to provide information specified in Annex F (“Information on Socio-Economic Considerations”) of the Convention to aid in the development of risk management evaluations (that include an analysis of possible control measures).

8. Draft risk management evaluations are prepared by ad hoc working groups under POPRC in accordance with Annex F of the Convention for consideration by POPRC and made available to Parties and observers to collect technical comments.

9. POPRC reviews the draft risk management evaluation prepared by the ad hoc working group and completes it.

10. On the basis of the risk profile and the risk management evaluation for each chemical, POPRC recommends whether the chemical should be considered by the Conference of the Parties (COP) for listing in Convention Annexes A, B, and/or C. (The type(s) of control measure(s) that might be introduced for a specific chemical would dictate whether the chemical would be listed in Annex A (elimination), Annex B (restriction), and/or Annex C (unintentional production) of the Convention.)

11. The COP makes the final decision on listing the chemical in Annexes A, B, and/or C of the Convention.

EPA anticipates issuing Federal Register notices soliciting information, when appropriate, during the listing process.

C. What Information is Being Requested for Risk Management Evaluations?

For the chemicals currently at the risk management stage (see Unit II.G.), EPA is seeking information that is supplementary to the information provided during previous stages in the review process; i.e., information relevant to Convention Annexes D and E; the proposals, evaluations and risk profiles. These documents, as well as the Secretariat’s letter soliciting information, are available at the Convention website (http://www.pops.int/documents/meetings/poprc/poprc.htm). In addition, POPRC identified specific areas where information and data relevant to the chemicals under consideration would be particularly useful for the future process. This information is discussed in Unit II.G.

When providing information, keep in mind that the possible control measures under the Convention include, among others, the prohibition or severe restriction of production and use. Therefore, the provision of accurate, high-quality information, as described in this notice and in the Secretariat letter soliciting information, is a priority for POPRC’s evaluation.

Commenters are invited to provide information they deem relevant to POPRC’s development of the risk management evaluation, such as that specified in Annex F of the Convention and other related information, as described in this unit and in Unit II.G. Provide summary information and relevant references for:

1. Efficacy and efficiency of possible control measures in meeting risk reduction goals:

i. Describe possible control measures.

ii. Technical feasibility.

iii. Costs, including environmental and health costs.

2. Alternatives (products and processes):

i. Describe alternatives.

ii. Technical feasibility.

iii. Costs, including environmental and health costs.

iv. Efficacy.

v. Risk.

vi. Availability.

vii. Accessibility.

3. Positive and/or negative impacts on society of implementing possible control measures:

i. Health, including public, environmental and occupational health.

ii. Agriculture, including aquaculture and forestry.

iii. Biota (biodiversity).

iv. Economic aspects.

v. Movement towards sustainable development.

vi. Social costs.

4. Waste and disposal implications (in particular, obsolete stocks of pesticides and clean-up of contaminated sites):

i. Technical feasibility.

ii. Cost.

5. Access to information and public education.

6. Status of control and monitoring capacity.

7. Any national or regional control actions taken, including information on alternatives, and other relevant risk management information.

8. Other relevant information for the risk management evaluation.

9. Other information requested by POPRC.

POPRC would also like to collect more Convention Annex E information and has requested additional or updated information for the following:

• Production data, including quantity and location.

• Uses.

• Releases, such as discharges, losses and emissions.

D. What Information is Being Requested for Risk Profiles?

For chemicals at the risk profile stage (see Unit II.H.), EPA is seeking information that is supplementary to the information in the proposals on the chemicals and POPRC’s evaluation of the proposals against the Convention‘s Annex D screening criteria. The proposals and the evaluations, as well as the Secretariat’s letter inviting Parties and observers to provide information, are available at the Convention website: http://www.pops.int/documents/meetings/poprc/poprc.htm.

Commenters are invited to provide information they deem relevant to POPRC’s development of risk profiles, such as that specified in Annex E of the Convention and other related information, as described in this unit and in Unit II.H.:

1. Sources, including as appropriate:

i. Production data, including quantity and location.

ii. Uses.

iii. Releases, such as discharges, losses and emissions.

2. Hazard assessment for the endpoint(s) of concern (as identified in the proposals and/or POPRC’s evaluation of the proposals against the screening criteria of Convention Annex D), including a consideration of toxicological interactions involving multiple chemicals.

3. Environmental fate, including data and information on the chemical and physical properties of a chemical as well as its persistence and how they are linked to its environmental transport, transfer within and between environmental compartments, degradation and transformation to other chemicals.

4. Monitoring data.

5. Exposure in local areas and, in particular, as a result of long range environmental transport, and including information regarding bio-availability.

E. How Should the Information be Provided?

1. EPA requests that commenters, where possible, use the questionnaire developed by POPRC to provide their information. The questionnaire with explanatory notes can be found on the Convention website at: http://www.pops.int/documents/meetings/poprc/request.htm. Information does not need to be provided for each item in the questionnaire. The explanatory notes under each item have been developed by POPRC and are meant to guide and assist the providers of information. Commenters are requested to include clear and precise references for all sources. Without the exact source of the information, POPRC will not be able to use the information. If the information is not readily available in the public literature, commenters may consider attaching the original source of the information to their submission. Commenters should indicate clearly on the questionnaire which chemical the information concerns and use one questionnaire per chemical. If for some reason the questionnaire does not provide an adequate mechanism for a type of comment or information, EPA requests that such comment or information be submitted using a similar format.

2. Although POPRC has developed provisional arrangements for the treatment of confidential information, as mentioned in Unit I.B.3., no CBI will be forwarded to the Secretariat. EPA will, however, consider such information in development of the U.S. response to the Secretariat. Instructions on where and how to submit comments and confidential information can be found in Unit I.B.2. and 3. and ADDRESSES.

3. Anyone wishing to have an opportunity to communicate with EPA orally on this issue should consult the technical person listed under FOR FURTHER INFORMATION CONTACT.

F. What is the Agency's Authority for Taking this Action?

EPA is requesting comment and information under the authority of section 102(2)(F) of the National Environmental Policy Act, 42 U.S.C. 4321 et seq., which directs all agencies of the Federal Government to “[r]ecognize the worldwide and long-range character of environmental problems and, where consistent with the foreign policy of the United States, lend appropriate support to initiatives, resolutions and programs designed to maximize cooperation in anticipating and preventing a decline in the quality of mankind’s world environment.” Section 17(d) of the Federal Insecticide, Fungicide and Rodenticide Act (FIFRA) also provides additional support in that it directs the Administrator of the EPA “in cooperation with the Department of State and any other appropriate Federal agency, [to] participate and cooperate in any international efforts to develop improved pesticide research and regulations.”

G. What is the Status of Chemicals at the Risk Management Stage?

The second meeting of POPRC took place on November 6-10, 2006, in Geneva, Switzerland. EPA provided notice of this meeting and POPRC’s intention to consider proposals for the five chemicals listed in this unit in the Federal Register notice of October 6, 2006 (71 FR 59108) (FRL-8099-2). Information about the November 2006 POPRC meeting is available at the Convention website http://www.pops.int. POPRC had before it five proposals which were submitted for its consideration by Parties to the Convention for addition to Annexes A, B, and/or C of the Convention.

1. Two of the five proposals were for industrial chemicals:

i. Octabromodiphenyl ether.

ii. Short-chained chlorinated paraffins.

2. One of the five proposals was for a chemical with both industrial and pesticidal uses: Pentachlorobenzene.

3. Two of the five proposals were for pesticides:

i. Alpha-hexachlorocyclohexane.

ii. Beta-hexachlorocyclohexane.

In accordance with the procedure in Article 8 of the Convention and discussed in Unit II.B., during the November 2006 meeting, POPRC examined the proposals and applied the screening criteria in Annex D of the Convention. With regard to all five chemicals, POPRC decided that it was satisfied that the screening criteria had been fulfilled and, that further work should therefore be undertaken to develop risk profiles. Therefore, POPRC, through the Secretariat, on December 8, 2006, requested that Parties and observers provide information relevant to POPRC’s development of risk profiles for the five chemicals listed in this unit. In addition to the Convention Annex E information discussed in Unit II.D., POPRC determined, and the Secretariat requested in their December 2006 letter, that additional information on the environmental fate of SCCP or information relating to their properties which would enable a fuller evaluation of environmental fate as being particularly useful for the future process. In the Federal Register notice of December 20, 2006 (71 FR 76325) (FRL-8109-1), EPA invited commenters to provide EPA with information for the risk profiles.

Using the information in the proposal and information submitted by Parties and observers in response to the Secretariat’s request in December 2006 in accordance with paragraph 4(a) of Article 8 of the Convention, risk profiles were prepared for each of the chemicals to, as noted in Convention Annex E, “evaluate whether the chemical is likely, as a result of its long-range environmental transport, to lead to significant adverse human health and/or environmental effects, such that global action is warranted.” The risk profile must further evaluate and elaborate on the information referred to in Annex D of the Convention and include, as far as possible, the information listed in Convention Annex E. A draft outline of the risk profile has been developed by POPRC, available at http://www.pops.int/documents/meetings/poprc/request.htm. The draft risk profiles developed by ad hoc working groups established by POPRC were presented in November 2007 at the third meeting of the POPRC (POPRC 3) for consideration.

In accordance with the procedure in Article 8 of the Convention and described Unit II.B., POPRC 3 examined the risk profiles and decided that the chemicals, except for SCCP, are likely, as a result of their long-range environmental transport, to lead to significant adverse human health and/or environmental effects such that global action is warranted. At that meeting, POPRC 3 also examined the draft risk profile for SCCP, but considered that the information available was insufficient to support the Convention Annex E-related decision on likely significant adverse effects from long-range environmental transport and did not approve the risk profile for the chemical. Therefore, POPRC 3 agreed to defer its final Convention Annex E- related decision on SCCP to its fourth meeting. POPRC, through the Secretariat, as described in Unit II.H., has asked for additional information for the SCCP risk profile.

The next step in the process for substances found by POPRC to be likely, as a result of their long-range environmental transport, to lead to significant adverse human health and/or environmental effects such that global action is warranted is for POPRC to prepare a risk management evaluation that includes an analysis of possible control measures, which as noted in Annex F (“Information on Socio-Economic Considerations”) of the Convention should encompass “the full range of options, including management and elimination.” The risk management evaluation shall further evaluate and elaborate on the information referred to in Annexes D and E of the Convention. Relevant information should include socio-economic considerations associated with possible control measures (see Unit II.C.) and should reflect due regard for the differing capabilities and conditions among the Parties. A draft outline of the risk management evaluation has been developed by POPRC and is available at http://www.pops.int/documents/meetings/poprc/request.htm. The risk management evaluation will take into account information to be submitted by Parties and observers as requested by POPRC through the Secretariat on December 4, 2007. Draft risk management evaluations developed by ad hoc working groups established under POPRC will be considered by the full POPRC and proceed as discussed in Unit II.B.

In addition to the Convention Annex F information discussed in Unit II.C., POPRC 3 identified the following specific areas where information and data relevant to the chemicals under consideration would be particularly useful for the future process.

1. Commercial octabromodiphenyl ether (c-octaBDE). When evaluating commercial c-octaBDE against the criteria contained in Annex D of the Convention and during the preparation of the risk profile as described in Annex E of the Convention, there was a further need identified for information on octabromodiphenyl ether (octaBDE) and nonabromodiphenyl ether (nonaBDE) related to risk estimations and bioaccumulation, including the environmental and health relevance of debromination. The POPRC 3 invited the intersessional working group on c-octaBDE to explore the information and if appropriate revise the risk profile for consideration by POPRC at its fourth meeting. Therefore, in addition to Convention Annex F information, POPRC is seeking:

i. Information on octa-BDE and nona-BDE related to risk estimation and bioaccumulation.

ii. Information on quantitative assessments of the role of debromination.

iii. Toxicological and ecotoxicological information for the commercial mixture and its components.

Further, EPA notes that:

• The POPRC 3 Convention Annex E/risk profile-related decision on c-octaBDE actually was based on the hexabromodiphenyl ether (hexaBDE) through nonaBDE congeners that are components of the commercial mixture.

• The POPRC 3 Convention Annex F/risk management-related recommendation that related to the commercial pentabromodiphenyl ether risk management evaluation actually covered the tetrabromodiphenyl ether and pentabromodiphenyl ether congener components of that commercial mixture. (These decisions will be reflected in the POPRC 3 final report which will be available at: http://www.pops.int/documents/meetings once it is finalized.)

Given this history, EPA believes there is a reasonable possibility that the POPRC will consider recommending the listing of the component congeners of c-octaBDE at its next meeting in October 2008 (POPRC 4). As such, EPA believes the type of information described in Annex F of the Convention (as described in Unit II.C.) relating to the hexaBDE through nonaBDE congeners that are components of the commercial mixture would be of use to POPRC, and is interested in information in this regard to inform its decisions and recommendations at POPRC 4.

2. Pentachlorobenzene (PeCB). At its third meeting of POPRC, it was noted that there were information gaps in the risk profile regarding environmental burden caused by intentional use and unintentional releases of PeCB. It was discussed that the comparison of exposure and effect data would provide a more complete basis for decisionmaking on the relative risk posed by a substance and such information is particularly important with a substance like PeCB that has both intended uses and unintentional sources. Quantitative data would provide useful understanding of the toxicity of the chemical and enable a clearer estimation of the costs and benefits that might be expected from listing it. Therefore, in addition to seeking information under the headings listed in Convention Annex F information, POPRC is seeking:

i. Information related to environmental burden caused by intentional use of PeCB.

ii. Information related to environmental burden caused by unintentional releases of PeCB.

H. What is the Status of the Chemical at the Risk Profile Stage?

In accordance with paragraph 7(a) of Article 8 of the Convention POPRC at its third meeting in November 2007 examined the draft risk profile for SCCP and considered that the information available was insufficient to support a decision on the risk profile. Therefore, POPRC agreed to defer its final decision to its fourth meeting and in its letter of December 3, 2007, the Secretariat invited Parties and observers to submit to the Secretariat additional information specified in Annex E of the Convention, particularly information on toxicity and ecotoxicity.

In addition, EPA is interested in receiving other information that would help support a determination of whether SCCP are likely, as a result of long-range environmental transport, to lead to significant adverse human health and/or environmental effects, such that global action is warranted. In particular, EPA would be interested in comparisons of toxicity or ecotoxicity data with detected or predicted levels of the substances resulting or anticipated from long-range environmental transport.

List of Subjects

Environmental protection, Chemicals, Hazardous substances.

Dated: December 20, 2007.
Wendy C. Hamnett,
Acting Director, Office of Pollution Prevention and Toxics.

[FR Doc. E7-25226 Filed 12-27-07; 8:45 am]

BILLING CODE 6560-50-S